DEPARTMENT OF COMMERCE

National Oceanic and Atmospheric Administration

[I.D. 061803D]

Endangered and Threatened Species; Take of Anadromous Fish

AGENCY: National Marine Fisheries Service (NMFS), National Oceanic and Atmospheric Administration (NOAA), Commerce.

ACTION: Notice of Final Determination and Discussion of Underlying Biological Analysis.

SUMMARY: NMFS has evaluated the joint resource management plan (RMP) for harvest of Puget Sound chinook salmon provided by the Puget Sound Treaty Tribes and the Washington Department of Fish and Wildlife (WDFW) pursuant to the protective regulations promulgated for Puget Sound chinook salmon under the Endangered Species Act (ESA). The RMP specifies the management of commercial, recreational and tribal salmon fisheries and steelhead net fisheries that potentially affect listed Puget Sound chinook salmon from May 1, 2003, through April 30, 2004. This document serves to notify the public that NMFS, by delegated authority from the Secretary of Commerce, has determined pursuant to the Tribal Rule and the government-to-government processes therein that implementing and enforcing the RMP will not appreciably reduce the likelihood of survival and recovery of the Puget Sound chinook salmon Evolutionarily Significant Unit (ESU).

DATES: The final determination on the take limit was made on May 20, 2003.

ADDRESSES: Sustainable Fisheries Division, National Marine Fisheries Service, 7600 Sand Point Way NE, Seattle, WA 98115-0070.

FOR FURTHER INFORMATION CONTACT: Susan Bishop at: (206) 526-4587, or e-mail: susan.bishop@noaa.gov regarding the RMP.

SUPPLEMENTARY INFORMATION:

This notice is relevant to the Puget Sound chinook salmon (Oncorhynchus tshawytscha) ESU.

Electronic Access: The full texts of NMFS' determination and the final Evaluation are available on the Internet at the NMFS, Sustainable Fisheries Division web site at: http://www.nwr.noaa.gov/1sustfsh/limit6/index.html.

Background

In February of this year, the Puget Sound Treaty Tribes and the WDFW (co-managers) provided a jointly developed RMP that encompasses Washington coastal and Puget Sound salmon fisheries affecting the Puget Sound chinook salmon ESU. The RMP is effective from May 1, 2003, through April 30, 2004. Harvest objectives specified in the RMP account for fisheries-related mortality of Puget Sound chinook throughout its migratory range, from Oregon and Washington to Southeast Alaska. The RMP also includes implementation, monitoring and evaluation procedures designed to ensure fisheries are consistent with these objectives. On April 2, 2003, at 68 FR 16001, NMFS published a notice of availability for public review and comment in the Federal Register, on its evaluation of how the Puget Sound chinook RMP addressed the criteria in Limit 4 of the ESA 4(d) rule (50 CFR 223.203 (b)(4)).

As required by § 223.203 (b)(6) of the ESA 4(d) rule, NMFS must determine pursuant to 50 CFR 223.209 and pursuant to the government-to-government processes therein whether the RMP for Puget Sound chinook would appreciably reduce the likelihood of survival and recovery of the Puget Sound chinook and other affected threatened ESUs. NMFS must take comments on how the RMP addresses the criteria in § 223.203 (b)(4) in making that determination.

Discussion of the Biological Analysis Underlying the Determination

The RMP's approach to establishing management objectives is risk averse and progressive, including: (1) management objectives, based on natural production and natural spawning, have been established for the majority of naturally producing populations which historically had self-sustaining chinook populations and for which data is available these management units represent the entire range of life history types (races) and geographic distribution that comprise the Puget Sound chinook salmon ESU; (2) the RMP derives exploitation rates based on conservative, quantifiable standards directly related to recovery, which take into account scientific uncertainty; (3) in isolating the effect of harvest on survival and recovery, the approach is valuable in ensuring that harvest actions do not impede recovery, regardless of the contribution of the other “Hs” (hatcheries, habitat, hydropower) at the same time, the approach is linked to the other Hs by taking into account current environmental and habitat conditions; and (4) the proposed objectives are generally consistent with NMFS' rebuilding exploitation rates (RER), population standards previously used to assess the likelihood of survival and recovery of the Puget Sound chinook salmon ESU. These standards included an assessment of the long-term effects of exploitation rates at these levels; (5) the RMP includes specific and integrated monitoring programs to maintain and improve population assessment methodologies as well as evaluate the effectiveness of harvest management actions and objectives. The RMP also includes provisions for an annual report. This report will assess compliance with, parameter validation of, and effectiveness of the RMP objectives. A more detailed discussion of NMFS' evaluation is on the Sustainable Fisheries Division web site (see Electronic Access, under the heading, SUPPLEMENTARY INFORMATION).

Summary of Comments Received in Response to the Proposed Evaluation and Pending Determination

NMFS published notice of its Proposed Evaluation and Pending determination on the RMP for public review and comment on April 2, 2003 (68 FR 16001). The comment period closed on April 17, 2003. Washington Trout submitted comments to NMFS on the Proposed Evaluation and Pending Determination during this public comment period. No other comments were received during the public comment period. Several of the comments were addressed and reflected in NMFS' final Evaluation and Recommended Determination but no substantial changes were made in that document, and no changes were required of the 2003 RMP. NMFS considered all comments before issuing its final determination on the Puget Sound chinook RMP.

The public comments received and NMFS' response are summarized here. The commenter questioned the use of incomplete catch and escapement information in the calculation of exploitation rates. The commenter also questioned the uncertainty of the data, in particular as it related to estimating survival rates by age and mortality rates by fishery. NMFS recognizes that there will be some uncertainty associated with whatever information is available, and considers the degree of uncertainty when making its decisions. To address these uncertainties, the data analyses incorporated variability around the productivity and capacity stock-recruit parameters, survival variables and management error. In making its determination on the 2003 RMP, NMFS determined that the data uncertainties did not represent a substantial risk in the short term to the ESU, and that the benefits to the ESU in immediate implementation of the one-year plan outweighed the risks represented by the uncertainty in the data.

The commenter suggested that the potential changes in life history of chinook salmon due to the intensity of the fisheries for select biological traits (such as age, sex, or size) may be more than modest. Based on the best available information, the anticipated exploitation rates in 2003 are expected to result in no, or at worst modest, changes in the biological traits of these populations with the implementation of this 1-year 2003 RMP. However, NMFS recognizes the potential for selective effects of fisheries and will continue to monitor them.

The commenter suggested that some management units within this classification have exploitation rates greater then 50 percent, and in those cases the exploitation rate would appreciably slow rebuilding to viable function. NMFS' critical thresholds are consistent with the concepts in the Viable Salmon Populations (VSP) document (NMFS 2000b, as cited in the Evaluation and Recommended Determination), which includes the concept of depensatory mortality (see page 12 of NMFS 2000b, as cited in Evaluation and Recommended Determination). Based on past performances of the fisheries under similar conditions, the current status of the populations, and the preliminary 2003 return information, it is expected that the implementation of the 2003 RMP will not appreciably reduce the likelihood of the ESU's survival and recovery or preclude most populations' movement toward achieving viable VSP thresholds, as required by the ESA 4(d) rule.

The commenter suggested that improved survival may be more responsible for the observed increasing escapement trend. NMFS recognizes that it is a combination of factors that have contributed to the observed stable to increasing five-year trends in escapement, including harvest actions. Overall, escapements observed under the 2001 RMP have been some of the highest during the five-year period reviewed for Puget Sound chinook salmon populations. The management objectives in the 2001 RMP are similar to the management objectives in the 2003 RMP. Based on the past performances of the fisheries under similar conditions, the current status of the populations, and the preliminary 2003 return information, it is expected that the 2003 RMP will continue the stable to increasing 5-year trends in escapement.

The commenter questioned the appropriateness of allowing impacts on a below-critical threshold population merely because the 2003 RMP demonstrates that the likelihood of survival and recovery of the entire ESU in the wild would not be appreciably reduced. NMFS followed directions provided in the ESA 4(d) rule in assessing the effects of the RMP on populations below their critical thresholds, including the Dosewallips River and Nooksack River populations. The Dosewallips River population is within the Mid-Hood Canal Management Unit. The characteristics of this population, including life history and run timing, are represented by the other population in the Hood Canal region and by other populations within the ESU. Additionally, the role of the undefined spawning aggregations in the adjacent Hamma Hamma and the Duckabush Rivers in recovery and their relationship with the Dosewallips River population may be clarified as further information becomes available. Because it is possible that production in the Hamma Hamma and the Duckabush Rivers may contribute to the stability of the Dosewallips River population, NMFS' assessment of the impacts of the 2003 RMP on the Dosewallips should be considered conservative.

NMFS concludes in the Evaluation and Recommended Determination that the potential higher risk that the Dosewallips River population may be expected to experience in 2003, in this 1-year harvest management plan, will not appreciably reduce the likelihood of the ESU's survival and recovery.

Additional risk to the North Fork Nooksack River population may be expected in 2003, under the 2003 RMP, primarily due to the anticipated total exploitation rate, in which the Canadian fisheries will account for the majority of the exploitation, exceeding NMFS' rebuilding exploitation rate ceiling for this population. The treaty tribes have a right and priority to conduct their fisheries within the limits of conservation constraints. Because of the Federal government's trust responsibility to the tribes, NMFS is committed to considering the co-managers' judgment and expertise when it comes to the conservation of trust resources. However, the opinion of the co-managers and their immediate interest in fishing is balanced against NMFS' responsibilities under ESA. Based on these considerations, NMFS concluded in the Evaluation and Recommended Determination that the 2003 RMP Nooksack Management Unit's minimum fishery regime exploitation rate that would be imposed on the southern United States fisheries in 2003, in this 1-year 2003 RMP, achieves this balance.

Authority

Under section 4 of the ESA, NMFS, by delegated authority from the Secretary of Commerce, is required to adopt such regulations as it deems necessary and advisable for the conservation of the species listed as threatened. The ESA salmon and steelhead 4(d) rule (50 CFR 223.203) specifies categories of activities that are adequately regulated to provide for the conservation of listed salmonids and sets out the criteria for such activities. The rule further provides that the prohibitions of paragraph (a) of the (4) (d) rule do not apply to actions undertaken in compliance with a RMP developed jointly by the State of Washington and the Tribes and determined by NMFS to be in accordance with the salmon and steelhead 4(d) rule, 50 CFR 223.203(b)(6).

Dated: June 23, 2003.
Phil Williams,
Chief, Endangered Species Division, Office of Protected Resources, National Marine Fisheries Service.

[FR Doc. 03-16571 Filed 6-30-03; 8:45 am]

BILLING CODE 3510-22-S